NATIONAL AERONAUTICS AND SPACE ADMINISTRATION

[Notice (07-086)]

Government-Owned Inventions, Available for Licensing

AGENCY: National Aeronautics and Space Administration.

ACTION: Notice of Availability of Inventions for Licensing.

SUMMARY: The inventions listed below assigned to the National Aeronautics and Space Administration, have been filed in the United States Patent and Trademark office, and are available for licensing.

DATES: December 7, 2007.

FOR FURTHER INFORMATION CONTACT: James J. McGroary, Patent Counsel, Marshall Space Flight Center, Mail Code LS01, Huntsville, AL 35812; telephone (256) 544-0013; fax (256) 544-0258.

NASA Case No. MFS-32390-1: Hybrid Cryogenic Tank Construction and Method for Manufacture Therefor;

NASA Case No. MFS-32400-1: Gas-Generator Augmented Expander Cycle Rocket Engine;

NASA Case No. MFS-32438-1: High Power RF Solid State Power Amplifier System;

NASA Case No. MFS-32439-1: Radio Frequency Power Load and Associated Method;

NASA Case No. MFS-32124-1: High-Speed Friction Stir Welding System;

NASA Case No. MFS-32548-1: System and Method for Determining Velocity of Electrically Conductive Fluid.

Dated: November 30, 2007.
Keith T. Sefton,
Deputy General Counsel, Administration and Management.

[FR Doc. E7-23736 Filed 12-6-07; 8:45 am]

BILLING CODE 7510-13-P